DEPARTMENT OF COMMERCE

International Trade Administration

[A-533-824]

Polyethylene Terephthalate Film, Sheet, and Strip From India: Final Results of Antidumping Duty Administrative Review; 2011-2012

AGENCY: Enforcement and Compliance, Formerly Import Administration, International Trade Administration, Department of Commerce.

SUMMARY: The Department of Commerce (the Department) published its preliminary results on August 7, 2013.¹ The period of review is July 1, 2011, through June 30, 2012. This review covers two mandatory respondents, Jindal Poly Films Limited (Jindal) and SRF Limited (SRF), and one non-selected respondent, Polyplex Corporation Ltd. (Polyplex). For the final results we continue to find that Polyplex and SRF sold subject merchandise at less than normal value.

¹ See Polyethylene Terephthalate Film, Sheet, and Strip from India: Preliminary Results of Antidumping Duty Administrative Review, 2011-2012, 78 FR 48143 (August 7, 2013) (Preliminary Results).

DATES: Effective Date: February 28, 2014.

FOR FURTHER INFORMATION CONTACT: Toni Page, AD/CVD Operations, Office VII, Enforcement and Compliance, International Trade Administration, U.S. Department of Commerce, 14th Street and Constitution Avenue NW., Washington, DC 20230; telephone: (202) 482-1398.

SUPPLEMENTARY INFORMATION:

Background

On August 7, 2013, the Department published the Preliminary Results.² We invited interested parties to comment on the Preliminary Results. Jindal submitted a letter in lieu of a case brief on September 6, 2013. SRF submitted a case brief on September 20, 2013. Petitioners submitted a letter in lieu of a rebuttal brief on October 18, 2013, stating that the Department should not alter the differential pricing methodology that it used in the Preliminary Results.

² Id.

As explained in the memorandum from the Assistant Secretary for Enforcement and Compliance, the Department has exercised its discretion to toll deadlines for the duration of the closure of the Federal Government from October 1, through October 16, 2013.³ Therefore, all deadlines in this segment of the proceeding have been extended by 16 days. The revised deadline for the final results of this review is now February 21, 2014.

³ See Memorandum for the Record from Paul Piquado, Assistant Secretary for Enforcement and Compliance, “Deadlines Affected by the Shutdown of the Federal Government” (October 18, 2013).

The Department has conducted this administrative review in accordance with section 751(a) of the Tariff Act of 1930, as amended (the Act).

Scope of the Order

The products covered by the antidumping duty order are all gauges of raw, pretreated, or primed PET Film, whether extruded or coextruded. Excluded are metallized films and other finished films that have had at least one of their surfaces modified by the application of a performance-enhancing resinous or inorganic layer of more than 0.00001 inches thick. Imports of PET Film are currently classifiable in the Harmonized Tariff Schedule of the United States (HTSUS) under item number 3920.62.00.90. HTSUS subheadings are provided for convenience and customs purposes. The written description of the scope of the antidumping duty order is dispositive.

Analysis of Comments Received

All issues raised in the case and rebuttal briefs by parties to this review are addressed in the Issues and Decision Memorandum. A list of issues that parties raised and to which we respond in the Issues and Decision Memorandum is attached to this notice as an Appendix. The Issues and Decision Memorandum is a public document and is on file electronically via Enforcement and Compliance's Antidumping and Countervailing Duty Centralized Electronic Service System (IA ACCESS). IA ACCESS is available to registered users at http://iaaccess.trade.gov, and is available to all parties in the Central Records Unit, Room 7046 of the main Department of Commerce building. In addition, a complete version of the Issues and Decision Memorandum can be accessed directly on the Internet at http://trade.gov/enforcement/. The signed Issues and Decision Memorandum and the electronic versions of the Issues and Decision Memorandum are identical in content.

Changes Since the Preliminary Results

Based on a review of the record and comments received from interested parties regarding our Preliminary Results, no changes have been made to Jindal's calculations. SRF's preliminary rate in the companion countervailing duty administrative review was 2.84 percent; ⁴ however, its final rate for the companion countervailing duty administrative review is 2.64 percent. The entirety of SRF's countervailing duty rate is based on export subsidies. Therefore, we have adjusted SRF's antidumping duty rate accordingly by the entire amount of its countervailing duty rate for these final results.⁵

⁴ See Polyethylene Terephthalate Film, Sheet, and Strip From India: Preliminary Results of Countervailing Duty Administrative Review; 2011, 78 FR 48147, 48148 (August 7, 2013).

⁵ See Memorandum to Mark Hoadley, Program Manager “Analysis Memorandum for the Final Results of the Antidumping Duty Administrative Review of Polyethylene Terephthalate Film, Sheet, and Strip from India: SRF Limited, dated concurrently with these final results.

Final Results of Review

As a result of our review, we determine the following weighted-average dumping margins exist for the period July 1, 2011, through June 30, 2012.

Manufacturer/Exporter | Weighted-average margin (percent)
Jindal Poly Films Limited | 0.00
SRF Limited | 0.78
Polyplex Corporation Ltd | 0.78

Assessment Rates

The Department determines, and U.S. Customs and Border Protection (CBP) shall assess, antidumping duties on all appropriate entries. We will instruct CBP to liquidate entries of merchandise produced and/or exported by Jindal, SRF, and Polyplex. The Department will issue assessment instructions to CBP 15 days after the date of publication of the final results of review. For assessment purposes, where the respondent reported the entered value for its sales, we calculated importer-specific (or customer-specific) ad valorem assessment rates based on the ratio of the total amount of the dumping duties calculated for the examined sales to the total entered value of those same sales.⁶ However, where the respondent did not report the entered value for its sales, we will calculate importer-specific (or customer-specific) per-unit duty assessment rates. We will instruct CBP to assess antidumping duties on all appropriate entries covered by this review if any per-unit duty assessment rate calculated in the final results of this review is above de minimis (i.e., at or above 0.50 percent). For any individually examined respondents whose weighted-average dumping margin is above de minimis in these final results, we will calculate importer-specific ad valorem duty assessment rates based on the ratio of the total amount of antidumping duties calculated for the importer's examined sales to the total entered value of the sales in accordance with 19 CFR 351.212(b)(1). Pursuant to 19 CFR 351.106(c)(2), we will instruct CBP to liquidate without regard to antidumping duties any entries for which the assessment rate is zero or de minimis (i.e., less than 0.50 percent).⁷

⁶ See 19 CFR 351.212(b).

⁷ See 19 CFR 351.106(c)(1).

Cash Deposit Requirements

The following deposit requirements will be effective for all shipments of PET Film from India entered, or withdrawn from warehouse, for consumption on or after the date of publication of the final results of this administrative review, as provided for by section 751(a)(2)(C) of the Act: (1) The cash deposit rate for the company under review will be the rate established in the final results of this review (except, if the rate is zero or de minimis, i.e., less than 0.5 percent, no cash deposit will be required); (2) for previously reviewed or investigated companies not listed above, the cash deposit rate will continue to be the company-specific rate published for the most recent period; (3) if the exporter is not a firm covered in this review, a prior review, or the less-than-fair-value investigation, but the manufacturer is, the cash deposit rate will be the rate established for the most recent period for the manufacturer of the merchandise; and (4) if neither the exporter nor the manufacturer is a firm covered in this or any previous review, the cash deposit rate will be the all others rate for this proceeding, 5.71 percent. These deposit requirements, when imposed, shall remain in effect until further notice.

Notification to Importers

This notice serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

This notice also serves as a reminder to parties subject to administrative protective order (APO) of their responsibility concerning the destruction of proprietary information disclosed under APO in accordance with 19 CFR 351.305(a)(3). Timely written notification of the return or destruction of APO materials or conversion to judicial protective order is hereby requested. Failure to comply with the regulations and terms of an APO is a sanctionable violation.

The Department is issuing and publishing these final results of administrative review in accordance with sections 751(a)(1) and 777(i)(1) of the Act.

Dated: February 21, 2014.
Paul Piquado,
Assistant Secretary for Enforcement and Compliance.

Appendix

List of Topics Discussed in the Issues and Decision Memorandum

Comment 1: Differential Pricing Analysis: Magnitude of the Observed Price Differences Ignored.

Comment 2: Differential Pricing Analysis: Inclusion of Both Higher- and Lower-Priced Sales.

Comment 3: Differential Pricing Analysis: Results of the Cohen's d Test By Purchaser, Region or Time Period Should Be Considered Separately.

Comment 4: Differential Pricing Analysis: Results of the Cohen's d Test By Time Period Is Flawed.

Comment 5: Differential Pricing Analysis: The Cohen's d Test Does Not Measure Causal Links or Statistical Significance But Systematically Results in Affirmative Determinations.

Comment 6: Differential Pricing Analysis: Explanation of Why the Average-to-Average Method Cannot Account for Such Differences.

Comment 7: The Withdrawal of the Regulatory Provisions Governing Targeted Dumping in Less-Than-Fair-Value Investigations.

Comment 8: Use of an Alternative Comparison Method in Administrative Reviews.

[FR Doc. 2014-04432 Filed 2-27-14; 8:45 am]

BILLING CODE 3510-DS-P